DEPARTMENT OF ENERGY

Federal Energy Regulatory Commission

Sunshine Act Notice

September 8, 2004.

The following notice of meeting is published pursuant to section 3(a) of the Government in the Sunshine Act (Pub. L. 94-409), 5 U.S.C. 552b:

AGENCY HOLDING MEETING: Federal Energy Regulatory Commission.

DATE AND TIME: September 15, 2004, 10 a.m.

PLACE: Room 2C, 888 First Street, NE., Washington, DC 20426.

STATUS: Open.

MATTERS TO BE CONSIDERED: Agenda.

* Note.—Items listed on the agenda may be deleted without further notice.

CONTACT PERSON FOR MORE INFORMATION: Magalie R. Salas, Secretary, telephone (202) 502-8400. For a recording listing items stricken from or added to the meeting, call (202) 502-8627.

This is a list of matters to be considered by the Commission. It does not include a listing of all papers relevant to the items on the agenda; however, all public documents may be examined in the reference and information center.

868th—Meeting, September 15, 2004

Regular Meeting, 10 a.m.

Administrative Agenda

A-1.

Docket# AD02-1, 000, Agency Administrative Matters

A-2.

Docket# AD02-7, 000, Customer Matters, Reliability, Security and Market Operations

A-3.

Docket# AD04-11, 000, Staff Report on Natural Gas Storage

A-4.

Docket# AD04-12, 000, Cost Ranges for the Development and Operation of a “Day One” RTO

Markets, Tariffs and Rates—Electric

E-1.

Docket# ER02-1656, 017, California Independent System Operator Corporation

Other#s ER02-1656, 018, California Independent System Operator Corporation

ER02-1656, 019, California Independent System Operator Corporation

E-2.

Docket# ER04-925, 001, Merrill Lynch Commodities, Inc.

E-3.

Docket# ER04-691, 000, Midwest Independent Transmission System Operator, Inc.

Other#s ER04-106, 002, Midwest Independent Transmission System Operator, Inc.

EL04-104, 000, Public Utilities With Grandfathered Agreements in the Midwest ISO Region

E-4.

Docket# ER04-829, 000, PJM Interconnection, LLC and Virginia Electric and Power Company

Other#s ER04-829, 001, PJM Interconnection, LLC and Virginia Electric and Power Company

E-5.

Docket# ER04-834, 000, Virginia Electric and Power Company

E-6.

Docket# RM04-12, 000, Financial Report and Cost Accounting, Oversight and Recovery Practices for Regional Transmission Organizations and Independent System Operators

E-7.

Omitted

E-8.

Omitted

E-9.

Omitted

E-10.

Docket# RT04-1, 001, Southwest Power Pool, Inc.

Other#s ER04-48, 001, Southwest Power Pool, Inc.

E-11.

Docket# ER04-1077, 000, PJM Interconnection, LLC

E-12.

Docket# ER04-1033, 000, Wabash Valley Power Association, Inc.

Other#s ER04-789, 000, Wabash Valley Power Association, Inc.

ER04-802, 000, Wabash Valley Power Association, Inc.

E-13.

Docket# ER04-1034, 000, Florida Power & Light Company

E-14.

Omitted

E-15.

Docket# ER04-1055, 000, Riverside Energy Center, LLC

E-16.

Docket# ER04-1059, 000, RockGen Energy, LLC

E-17.

Docket# ER04-886, 000, Entergy Services, Inc.

E-18.

Docket# ER04-1064, 000, New England Power Pool

E-19.

Docket# ER04-1091, 000, Illinois Power Company

E-20.

Omitted

E-21.

Omitted

E-22.

Docket# ER00-1, 004, Cross-Sound Cable Company, LLC

E-23.

Docket# ER02-2595, 000, Midwest Independent Transmission System Operator, Inc.

Other#s ER02-2595, 003, Midwest Independent Transmission System Operator, Inc.

E-24.

Docket# ER03-599, 000, Entergy Services, Inc.

Other#s ER03-599, 001, Entergy Services, Inc.

ER03-599, 002, Entergy Services, Inc.

ER03-599, 003, Entergy Services, Inc.

E-25.

Docket# NJ04-4, 000, Orlando Utilities Commission

E-26.

Docket# ER03-647, 004, New York Independent System Operator, Inc.

E-27.

Omitted

E-28.

Docket# ER98-997, 003, California Independent System Operator Corporation

Other#s

ER98-1309, 002, California Independent System Operator Corporation

ER02-2297, 002, California Independent System Operator Corporation

ER02-2298, 002, California Independent System Operator Corporation

E-29.

Docket# RT04-1, 004, Southwest Power Pool, Inc.

Other#s ER04-48, 004, Southwest Power Pool, Inc.

E-30.

Docket# QF95-328, 006, EcoEléctrica, L.P.

E-31.

Omitted

E-32.

Omitted

E-33.

Docket# TS04-261, 000, Alcoa Power Generating Inc.

Other#s TS04-255, 000, Cross Sound Cable Company, LLC

TS04-242, 000, Daughin Island Gathering Partners

TS04-6, 000, Distrigas of Massachusetts LLC

TS04-236, 000, Distrigas of Massachusetts LLC

TS04-267, 000, El Paso Corporation

TS04-150, 000, Granite State Gas Transmission Co.

TS04-262, 000, High Island Offshore System, LLC

TS04-249, 000, Kinder Morgan Pipelines

TS04-271, 000, Kinder Morgan Pipelines

TS04-272, 000, Kinder Morgan Pipelines

OA04-1, 000, Lincoln Electric System

TS04-209, 000, Midwestern Gas Transmission Co.

TS04-208, 000, Northern Border Pipeline Company

TS04-248, 000, National Fuel Gas Supply Corporation

TS04-3, 000, NorthWestern Energy

TS04-3, 001, NorthWestern Energy

TS04-252, 000, Ohio Valley Electric Corporation and Indiana-Kentucky Electric Corporation

TS04-184, 000, Panther Interstate Pipeline Energy, LLC

TS04-263, 000, Petal Gas Storage, L.L.C.

TS04-231, 000, Questar Pipeline Company, Overthrust Pipeline Company, and Questar Southern Trails Pipeline Company

TS04-71, 000, PPL Electric Utilities

TS04-152, 000, Saltville Gas Storage Company LLC

TS04-273, 000, Shell Offshore Inc. and Shell Gulf of Mexico

TS04-274, 000, Shell Gas Transmission, LLC

TS04-222, 000, Southwest Gas Transmission Company

TS04-253, 000, Texas Gas Transmission LLC

TS04-212, 000, Viking Gas Transmission Co.

TS04-260, 000, Williston Basin Interstate Pipeline Co.

E-34.

Omitted

E-35.

Docket# EL04-90, 000, Nevada Power Company

E-36.

Omitted

E-37.

Docket# ER01-2536, 005, New York Independent System Operator, Inc.

E-38.

Docket# EL04-71, 000, Empire District Electric Company

E-39.

Docket# PL04-5, 000, Policy Statement on Matters Related To Bulk Power System Reliability

E-40.

Omitted

E-41.

Omitted

E-42.

Docket# EL99-14, 000, Southwestern Electric Cooperative, Inc. v. Soyland Power Cooperative, Inc.

Other#s EL99-14, 005, Southwestern Electric Cooperative, Inc. v. Soyland Power Cooperative, Inc.

E-43.

Docket# ER03-1247, 003, Northeast Utilities Service Company

E-44.

Docket# ER03-31, 005, United Illuminating Company

E-45.

Docket# ER03-549, 000, Southern California Edison Company

Other#s ER03-549, 001, Southern California Edison Company

ER03-549, 002, Southern California Edison Company

E-46.

Docket# ER04-109, 000, Pacific Gas and Electric Company

EL04-37, 000, Pacific Gas and Electric Company

E-47.

Docket# ER04-55, 000, Maine Yankee Atomic Power Company

E-48.

Docket# ER04-653, 002, PJM Interconnection, LLC

E-49.

Docket# EC02-113, 001, Cinergy Services, Inc., on behalf of PSI Energy, Inc., CinCap Madison, LLC and CinCap VII, LLC

E-50.

Docket# EL03-219, 001, Central Iowa Power Cooperative, Clarke Electric Cooperative, Inc., Consumers Energy Cooperative, East-Central Iowa Rural Electric Cooperative, Eastern Iowa Light & Power Cooperative, Farmers Electric Cooperative, Inc., Guthrie County Rural Electric Cooperative Association, Maquoketa Valley Electric Cooperative, Midland Power Cooperative, Pella Cooperative Electric Association, Rideta Electric Cooperative Inc., South Iowa Municipal Electric Cooperative Association, Southwest Iowa Service Cooperative, and T.I.P. Rural Electric Cooperative

E-51.

Omitted

E-52.

Docket# EL03-53, 001, Gregory Swecker v. Midland Power Cooperative

E-53.

Docket# EL04-51, 001, InterGen Services, Inc. on behalf Of Cottonwood Energy Company, LP v. Entergy Services, Inc. and Entergy Gulf States, Inc.

E-54.

Omitted

E-55.

Docket# ER01-2998, 004, Pacific Gas and Electric Company

Other#s

ER02-358, 004, Pacific Gas and Electric Company

EL02-64, 004, Northern California Power Agency v. Pacific Gas and Electric Company and The California Independent System Operator Corporation

E-56.

Docket# ER01-890, 006, Boston Edison Company

Other#s

ER01-890, 007, Boston Edison Company

ER02-1465, 003, Boston Edison Company

ER02-1465, 004, Boston Edison Company

E-57.

Docket# ER02-1333, 001, PJM Interconnection, LLC

E-58.

Docket# ER02-2463, 002, ISO New England, Inc.

Other#s ER02-2463, 003, ISO New England, Inc.

E-59.

Docket# ER02-851, 004, Southern Company Services, Inc.

Other#s ER02-851, 012, Southern Company Services, Inc.

E-60.

Docket# ER04-335, 003, New England Power Pool

E-61.

Docket# ER04-337, 004, Pacific Gas and Electric Company

E-62.

Docket# ER04-499, 001, American Electric Power Service Corporation

Other#s ER04-499, 002, American Electric Power Service Corporation

E-63.

Docket# ER04-608, 001, PJM Interconnection, LLC

E-64.

Docket# ER04-714, 002, Florida Power & Light Company—New England Division

Other#s ER04-157, 006, Bangor Hydro-Electric Company, Central Maine Power Company, NSTAR Electric & Gas Corporation, New England Power Company, Northeast Utilities Service Company, The United Illuminating Company, and Vermont Electric Power Company

E-65.

Docket# ER04-742, 001, PJM Interconnection, LLC

E-66.

Docket# QF86-681, 006, Ormesa LLC

E-67.

Docket# EL03-152, 000, Duke Energy Trading and Marketing Company

E-68.

Docket# ER96-2495, 020, AEP Power Marketing, Inc.

Other#s ER97-4143, 008, AEP Service Corporation;

ER97-1238, 015, CSW Power Marketing, Inc.;

ER98-2075, 014, CSW Energy Services, Inc.;

ER98-542, 010, Central and South West Services, Inc.;

EL04-131, 000, Central and South West Services, Inc.

E-69.

Docket# ER99-2326, 006, Pacific Gas and Electric Company

Other#s ER99-68, 006, Pacific Gas and Electric Company

E-70.

Docket# EL03-159, 000, Modesto Irrigation District

E-71.

Docket# ER97-4166, 015, Southern Company Energy Marketing, Inc.

Other#s EL04-124, 000, Southern Company Energy Marketing, Inc.

E-72.

Docket# ER91-569, 023, Entergy Services, Inc.

Other#s EL04-123, 000, Entergy Services, Inc.

E-73.

Docket# ER04-132, 000, Wolverine Power Supply Cooperative, Inc.

Other#s EL04-38, 000, Wolverine Power Supply Cooperative, Inc.

E-74.

Docket# EL02-123, 003, Boston Edison Company

Other#s EL02-123, 004, Boston Edison Company

E-75.

Docket# ER01-989, 002, Green Mountain Power Corporation

Other#s ER01-989, 003, Green Mountain Power Corporation

E-76 Docket# ER04-435, 002, Southern California Edison Company

Other#s ER04-435, 004, Southern California Edison Company

Markets, Tariffs and Rates—Gas

G-1.

Docket# RP98-18, 015, Iroquois Gas Transmission System, L.P.

G-2.

Docket# PR04-12, 000, National Fuel Gas Distribution Corporation

G-3.

Docket# RP04-269, 000, Black Marlin Pipeline Company

Other#s RP04-269, 001, Black Marlin Pipeline Company

G-4.

Docket# RP02-361, 028, Gulfstream Natural Gas System, L.L.C.

G-5.

Docket# RP03-398, 009, Northern Natural Gas Company

G-6.

Docket# RP04-188, 003, Great Lakes Gas Transmission Limited Partnership

G-7.

Omitted

G-8.

Omitted

G-9.

Docket# RP04-217, 000, Calpine Energy Services, LP v. Gas Transmission Northwest Corporation

G-10.

Docket# RP04-281, 001, Northern Natural Gas Company

Energy Projects—Hydro

H-1.

Omitted

H-2.

Docket# P-2000, 053, New York Power Authority

Other#s EL03-224, 003, Massachusetts Municipal Wholesale Electric Company v. New York Power Authority

H-3.

Docket# P-1971, 090, Idaho Power Company

H-4.

Docket# P-2612, 015, FPL Energy Maine Hydro LLC

H-5.

Docket# P-77, 121, Pacific Gas and Electric Company

H-6.

Docket# P-2210, 106, Appalachian Power Company

H-7.

Docket# P-2232, 449, Duke Energy Corporation

Energy Projects—Certificates

C-1.

Docket# CP04-346, 000, CenterPoint Energy—Mississippi River Transmission Corporation

C-2.

Docket# CP04-64, 000, Trunkline Gas Company, LLC

Other#s CP02-60, 004, Trunkline LNG Company, LLC

C-3.

Docket# CP04-55, 000, Northwest Pipeline Corporation and Terasen Sumas, Inc.

Other#s CP04-56, 000, Terasen Sumas, Inc.

C-4.

Omitted

C-5.

Docket# CP03-75, 001, Freeport LNG Development, L.P.

C-6.

Docket# CP02-396, 008, Greenbrier Pipeline Company, L.L.C.

C-7.

Docket# CP04-121, 001, El Paso Natural Gas Company

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-20821 Filed 9-10-04; 3:41 pm]

BILLING CODE 6717-01-P